DEPARTMENT OF TRANSPORTATION

Federal Aviation Administration

[Summary Notice No. PE-2000-07]

Petitions for Exemption; Summary of Petitions Received; Dispositions of Petitions Issued

AGENCY: Federal Aviation Administration (FAA), DOT.

ACTION: Notice of petitions for exemption received and of dispositions of prior petitions.

SUMMARY: Pursuant to FAA's rulemaking provisions governing the application, processing, and disposition of petitions for exemption (14 CFR Part 11), this notice contains a summary of certain petitions seeking relief from specified requirements of the Federal Aviation Regulations (14 CFR Chapter I), dispositions of certain petitions previously received, and corrections. The purpose of this notice is to improve the public's awareness of, and participation in, this aspect of FAA's regulatory activities. Neither publication of this notice nor the inclusion or omission of information in the summary is intended to affect the legal status of any petition or its final disposition.

DATES: Comments on petitions received must identify the petition docket number involved and must be received on or before March 22, 2000.

ADDRESSES: Send comments on any petition in triplicate to: Federal Aviation Administration, Office of the Chief Counsel, Attn: Rule Docket (AGC-200), Petition Docket No. __, 800 Independence Avenue, SW, Washington, DC 20591.

Comments may also be sent electronically to the following internet address: 9-NPRM-cmts@faa.gov.

The petition, any comments received, and a copy of any final disposition are filed in the assigned regulatory docket and are available for examination in the Rules Docket (AGC-200), Room 915G, FAA Headquarters Building (FOB 10A), 800 Independence Avenue, SW, Washington, DC 20591; telephone (202) 267-3132.

FOR FURTHER INFORMATION CONTACT: Cherie Jack (202) 267-7271 or Vanessa Wilkins (202) 267-8029 Office of Rulemaking (ARM-1), Federal Aviation Administration, 800 Independence Avenue, SW, Washington, DC 20591.

This notice is published pursuant to paragraphs (c), (e), and (g) of § 11.27 of Part 11 of the Federal Aviation Regulations (14 CFR Part 11).

Issued in Washington, DC, on February 25, 2000.
Donald P. Byrne,
Assistant Chief Counsel for Regulations.

Petition for Exemption

Docket No.: 29848.

Petitioner: Baltimore County Police Department.

Section of the CFR Affected: 14 CFR 1.1 and 61.45(a).

Description of Relief Sought: To permit BCPD pilots to undergo part 61 flight training and practical tests in the BCPD's public aircraft, specifically former military Bell OH-58 helicopters.

Docket No.: 29875.

Petitioner: Airbus Industrie.

Section of the CFR Affected: 14 CFR 25.785(d), 25.791, 25.807(c)(1), 25.807(d)(1), 25.809(f)(1), 25.811(a), 25.812(g), 25.857(e), and 25.1447(c)(1), (c)(3) 25.807(c)(1).

Description of Relief Sought: To allow carriage of up to four supernumeraries on the Airbus Model A300F4-600R series airplanes.

Dispositions of Petitions

Docket No.: 29028.

Petitioner: Mobil Business Resources Corporation.

Section of the FAR Affected: 14 CFR 135.143(c)(2).

Description of Relief Sought/Disposition: To permit MBRC to operate certain Bell Model 206L and Sikorsky S-76A helicopters under part 135 without a TSO-C112 transponder installed on each helicopter. Grant, 10/28/99, Exemption No. 6696A.

Docket No.: 29716.

Petitioner: Century Aviation, Inc.

Section of the FAR Affected: 14 CFR 135.143(c)(2).

Description of Relief Sought/Disposition: To permit Century to operate its Israel Aircraft Industries 1124 Westwind (Registration No. N598JM, Serial No. 222) under part 135 without a TSO-C112 (Mode S) transponder installed in the aircraft. Grant, 10/28/99, Exemption No. 7059.

Docket No.: 29728.

Petitioner: Air Wilmington.

Section of the FAR Affected: 14 CFR 135.143(c)(2).

Description of Relief Sought/Disposition: To permit Air Wilmington to operate its Beechcraft King Air A90 (Registration No. N198BC, Serial No. LJ-147) under part 135 wtihout a TSO-C112 (Mode S) transponder installed in the aircraft. Grant, 10/28/99, Exemption No. 7060.

Docket No.: 29161.

Petitioner: World Airways Inc.

Section of the FAR Affected: 14 CFR 121.434(e).

Description of Relief Sought/Disposition: To permit World to use flight attendants trained and qualified by Garuda Indonesia Airlines (Garuda) to act as required flight attendants during Hadj-related flight operations without each of those flight attendants having received 5 hours of supervised in-flight operating experience required by 14 CFR 121.434(e). Grant, 2/4/00, Exemption No. 7116.

Docket No.: 29651.

Petitioner: Experimental Aircraft Association, Inc.

Section of the FAR Affected: 14 CFR 135.251, 145.255, 135.353, and appendices I and J of part 121.

Description of Relief Sought/Disposition: To allow the EAA to conduct local sightseeing flights at charity or community events, for compensation or hire, without complying with certain anti-drug and alcohol prevention requirements of part 135, subject to the following conditions and limitations. Partial Grant, 2/3/00, Exemption No. 7111.

Docket No.: 29648.

Petitioner: Aircraft Owners and Pilots Association.

Section of the FAR Affected: 14 CFR 135.251, 135.255, 135.353, and appendices I and J of part 121.

Description of Relief Sought/Disposition: To allow those AOPA members who can demonstrate current AOPA membership to conduct local, nonstop, sightseeing flights for charity or community events, for compensation or hire, without complying with certain anti-drug and alcohol misuse prevention requirements of part 135, subject to the following conditions and limitations. Grant, 2/3/00, Exemption No. 7112.

Docket No.: 29630.

Petitioner: National Air Transportation Association.

Section of the FAR Affected: 14 CFR 135.251, 135.255, 135.353, and appendices I and J of part 121.

Description of Relief Sought/Disposition: To allow NATA members to conduct local sightseeing flights for charity or community events, for compensation or hire, without complying with certain anti-drug and alcohol misuse prevention requirements of part 135, subject to the following conditions and limitations. Grant, 2/3/00, Exemption No. 7113.

Docket No.: 29578.

Petitioner: Hawaiian Airlines, Inc.

Section of the FAR Affected: 14 CFR 121.433(c)(1)(iii) and 121.411(a)(1) and (b)(1) and appendix F of part 121.

Description of Relief Sought/Disposition: To allow Hawaiian to combine recurrent flight and ground training and proficiency checks for Hawaiian's flight crewmembers into a single annual training and proficiency evaluation program. Grant, 1/31/00, Exemption No. 7108.

Docket No.: 29841.

Petitioner: BD Aviation, Inc.

Section of the FAR Affected: 14 CFR 135.299(a).

Description of Relief Sought/Disposition: To permit DB Aviation pilots to accomplish a line operational evaluation (LOE) in a Level C or Level D flight simulator in lieu of a line check in an aircraft. Denial, 2/3/00, Exemption No. 7109.

[FR Doc. 00-4902 Filed 2-29-00; 8:45 am]

BILLING CODE 4910-13-M